Proclamation 9508 of September 30, 2016

National Cybersecurity Awareness Month, 2016

By the President of the United States of America

A Proclamation

Technology plays an increasingly significant role in our daily lives. The rise of the Internet has brought incredible opportunity and new ways of innovating and enhancing our way of life—but with great potential also comes heightened risk to our data. Keeping cyberspace secure is a matter of national security, and in order to ensure we can reap the benefits and utility of technology while minimizing the dangers and threats it presents, we must continue to make cybersecurity a top priority. Throughout National Cybersecurity Awareness Month, we recognize the role that individuals can play in enhancing cybersecurity, and we join to raise awareness of the importance of securing our information against cyber threats.

To build on the cybersecurity efforts already underway, my Administration introduced the Cybersecurity National Action Plan earlier this year to address short-term and long-term challenges when it comes to cybersecurity. We have proposed increasing the budget for cybersecurity by more than one-third and establishing an Information Technology Modernization Fund to help retire, replace, and modernize our costly information technology legacy systems. We are also striving to invest in cybersecurity education, reform the way Government manages and responds to large-scale cyber threats, and update obsolete Federal IT systems that are vulnerable to attack.

To meet these goals, we created the position of the first-ever Federal Chief Information Security Officer to help drive cybersecurity policy, planning, and implementation across the Federal Government. We also established the Commission on Enhancing National Cybersecurity to recommend actions that can be taken over the next decade to strengthen cybersecurity in both the public and private sectors while protecting privacy. This Commission will maintain public safety and economic and national security, foster discovery and development of new technical solutions, and bolster partnerships between governments and the private sector in an effort to promote best cybersecurity practices.

Cyber threats not only pose a danger to our national security, but also have the potential to harm our financial security and undermine the privacy of millions of Americans. An important part of enhancing cybersecurity involves empowering more Americans to help themselves take proper precautions online and in their financial transactions; cybersecurity is a shared responsibility, and everyone can do their part to make smart, safe choices. The Federal Government is also doing our part through the BuySecure Initiative, which has issued more than three million more secure credit cards for Government purchases. We are also working to help give Americans earlier warning of identity crimes with free access to credit scores through their existing consumer accounts.

Through the Department of Homeland Security's “Stop.Think.Connect.” campaign, we are aiming to increase awareness of the simple steps people can take to strengthen their cybersecurity. The National Cyber Security Alliance, in partnership with the private sector and non-profit organizations, recently launched the “Lock Down Your Login” campaign to empower Americans to take control of their online accounts and add an extra layer of security beyond just using passwords. I encourage every American to take this important step and to visit www.LockDownYourLogin.com to learn more.

Keeping America safe requires us to bolster our security online. This month, we renew our commitment to ensuring our information is more secure, our data is safer, and our families and businesses are more protected than ever before. If we work toward this goal—as individuals and as a Nation—together we can realize our full potential in the digital age.

NOW, THEREFORE, I, BARACK OBAMA, President of the United States of America, by virtue of the authority vested in me by the Constitution and the laws of the United States, do hereby proclaim October 2016 as National Cybersecurity Awareness Month. I call upon the people of the United States to recognize the importance of cybersecurity and to observe this month with activities, events, and training that will enhance our national security and resilience.

IN WITNESS WHEREOF, I have hereunto set my hand this thirtieth day of September, in the year of our Lord two thousand sixteen, and of the Independence of the United States of America the two hundred and forty-first.

[FR Doc. 2016-24346

Filed 10-5-16; 8:45 am]

Billing code 3295-F7-P